NATIONAL SCIENCE FOUNDATION

Sunshine Act Meeting

AGENCY HOLDING MEETING: National Science Foundation, National Science Board, Ad hoc Committee on NSB Nominees Class of 2006-2012.

DATE AND TIME: July 15, 2004, 2:30-4 p.m.

PLACE: National Science Foundation, 4201 Wilson Boulevard, Arlington, VA 22230.

STATUS: This meeting will be closed to the public.

MATTERS TO BE CONSIDERED: Nominees for appointments as NSB members.

For information contact: Dr. Michael P. Crosby, Executive Officer and NSB Office Director, (703) 292-7000, www.nsf.gov/nsb.

Michael P. Crosby,
Executive Officer and NSB Office Director.

[FR Doc. 04-15109 Filed 6-29-04; 1:50 pm]

BILLING CODE 7555-01-P